DEPARTMENT OF VETERANS AFFAIRS

[OMB Control No. 2900-0208]

Proposed Information Collection (Architect—Engineer Fee Proposal) Activity; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information used to notify contractors of available work, solicit and evaluate bids, and monitor work in progress.

DATES: Written comments and recommendations on the proposed collection of information should be received on or before January 17, 2012.

ADDRESSES: Submit written comments on the collection of information through the Federal Docket Management System (FDMS) at www.Regulations.gov or to Cynthia Harvey-Pryor, Veterans Health Administration (10P7BFP), Department of Veterans Affairs, 810 Vermont Avenue NW, Washington, DC 20420; or email: cynthia.harvey-pryor@va.gov. Please refer to “OMB Control No. 2900-0208” in any correspondence. During the comment period, comments may be viewed online through FDMS.

FOR FURTHER INFORMATION CONTACT: Cynthia Harvey-Pryor at (202) 461-5870 or fax (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

a. Architect—Engineer Fee Proposal, VA Form 10-6298.

b. Daily Log (Contract Progress Report—Formal Contract), VA Form 10-6131.

c. Supplement Contract Progress Report, VA Form 10-61001a.

OMB Control Number: 2900-0208.

Type of Review: Extension of a currently approved collection.

Abstracts:

a. An Architect-engineering firm selected for negotiation of a contract with VA is required to submit a fee proposal based on the scope and complexity of the project. VA Form 10-6298 is used to obtain such proposal and supporting cost or pricing data from the contractor and subcontractor.

b. VA Forms 10-6131 and 10-6001a are used to record data necessary to assure the contractor provides sufficient labor and materials to accomplish the contract work. VA Form 10-6131 is used for national contracts and VA Form 10-6001a is used for smaller VA Medical Center station level projects and as an option on major projects before the interim schedule is submitted.

Affected Public: Business or other for-profit.

Estimated Annual Burden: 5,341 hours.

a. VA Form 10-6298—1,000.

b. VA Form 10-6131—3,591.

c. VA Form 10-6001a—750.

Estimated Average Burden per Respondent:

a. VA Form 10-6298—4 hours.

b. VA Form 10-6131—12 minutes.

c. VA Form 10-6001a—12 minutes.

Frequency of Response: On occasion.

Estimated Number of Respondents:

a. VA Form 10-6298—250.

b. VA Form 10-6131—17,955.

c. VA Form 10-6001a—3,750.

Dated: November 8, 2011.
By direction of the Secretary.
Denise McLamb,
Program Analyst, Enterprise Records Service.

[FR Doc. 2011-29362 Filed 11-14-11; 8:45 am]

BILLING CODE 8320-01-P